SOCIAL SECURITY ADMINISTRATION

Agency Information Collection Activities: Proposed Request and Comment Request

The Social Security Administration (SSA) publishes a list of information collection packages that will require clearance by the Office of Management and Budget (OMB) in compliance with Pub.L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the SSA Reports Clearance Officer and to the OMB Desk Officer at the following addresses:

(OMB), Attn: Desk Officer for SSA, New Executive Office Building, Room 10230, 725 17th St., NW., Washington, DC 20503

(SSA), Social Security Administration, DCFAM, Attn: Frederick W. Brickenkamp 1-A-21 Operations Bldg., 6401 Security Blvd., Baltimore, MD 21235

I. The information collections listed below will be submitted to OMB within 60 days from the date of this notice. Therefore, your comments should be submitted to SSA within 60 days from the date of this publication. You can obtain copies of the collection instruments by calling the SSA Reports Clearance Officer at 410-965-4145, or by writing to him at the address listed above.

1. Application for Retirement Insurance Benefits—0960-0007. In order to receive Social Security retirement insurance benefits, an individual must file an application with the Social Security Administration (SSA). The SSA-1 is one application that the Commissioner of Social Security prescribes to meet this requirement. The information that SSA collects will be used to determine entitlement to retirement benefits. The respondents are individuals who choose apply for Social Security retirement insurance.

Number of Respondents: 1,460,692.

Frequency of Response: 1.

Average Burden Per Response: 10.5 minutes.

Estimated Annual Burden: 255,621 hours.

2. Pain Report-Child—0960-0540. The information collected on form SSA-3371-BK will be used to obtain the types of information specified in the regulations and to provide disability interviewers (and applicants/claimants in self-help situations) with a convenient means of recording the information obtained. This information is used by the State disability determination services (DDS) adjudicators, and administrative law judges, to assess the effects of symptoms on functionality for determining disability under the Social Security Act. The respondents are applicants for SSI benefits.

Number of Respondents: 250,000.

Frequency of Response: 1.

Average Burden Per Response: 15 minutes.

Estimated Annual Burden: 62,500 hours.

3. Reconsideration Report for Disability Cessation—0960-0350. Form SSA-782-BK will be used by claimants and SSA field offices to document new developments on the claimant's condition (as perceived by the claimant), since the prior continuing disability interview was conducted. The form will also be used by the SSA interviewer to provide his/her observations of the claimant. The respondents are claimants for Old-Age, Survivors and Disability Insurance and Supplemental Security Income, who file a Request for Reconsideration—Disability Cessation.

Number of Respondents: 100,000.

Frequency of Response: 1.

Average Burden Per Response: 30 minutes.

Estimated Annual Burden: 50,000 hours.

4. Request for Waiver of Overpayment Recovery or Change in Repayment Notice—0960-0037. Form SSA-632 collects information on the circumstances surrounding overpayment of Social Security Benefits to recipients. SSA uses the information to determine whether recovery of an overpayment amount can be waived or must be repaid and, if repaid, how recovery will be made. The respondents are recipients of Social Security, Medicare, Black Lung or Supplemental Security Income overpayments.

Number of Respondents: 500,000.

Frequency of Response: 1.

Average Burden Per Response: 120 minutes.

Estimated Annual Burden: 1,000,000 hours.

5. Beneficiary Interview and Auditor's Observations Form-0960-0630. The information collected through the Beneficiary Interview and Auditor's Observations form, SSA-322, will be used by SSA's Office of the Inspector General (OIG) to interview beneficiaries and/or their caregivers to determine whether representative payees are complying with their duties and responsibilities. Respondents to this collection will be randomly selected Supplemental Security Income recipients and Social Security beneficiaries that have representative payees.

Number of Respondents: 150.

Frequency of Response: 1.

Average Burden Per Response: 15 minutes.

Estimated Annual Burden: 38 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Discrimination Complaint Form—0960-0585. The information collected on form SSA-437 will be used by SSA to investigate and informally resolve complaints of discrimination based on race, color, national origin, sex, age, religion and retaliation in any program or activity conducted by SSA. A person who believes that he or she has been discriminated against on any of the above bases may file a written complaint of discrimination. The information will be used to identify the complainant; identify the alleged discriminatory act; ascertain the date of such alleged act; obtain the identity of the individual(s)/ facility/component that allegedly discriminated; and ascertain other relevant information that would assist in the investigation and resolution of the complaints. The respondents are individuals who allege discrimination on the grounds described above.

Number of Respondents: 300.

Frequency of Response: 1.

Average Burden Per Response: 1 hour.

Estimated Annual Burden: 300 hours.

2. Claimant's Statement When Request for Hearing is Filed and the Issue is Disability—0960-0316. SSA requests that a claimant complete an HA-4486 when a claim for title II disability benefits or title XVI Supplemental Security Income benefits is denied and the claimant wishes a hearing before an Administrative Law Judge (ALJ). SSA uses this form to obtain updated information on the claimant's medical treatment to assist the ALJ in preparing for the hearing and in issuing a decision on entitlement to benefits. The respondents are individuals whose claims have been denied and who want a hearing before an ALJ.

Number of Respondents: 442,720.

Frequency of Response: 1.

Average Burden Per Response: 15 minutes.

Estimated Annual Burden: 110,680.

Dated: January 19, 2001.
Frederick W. Brickenkamp,
Reports Clearance Officer.

[FR Doc. 01-2324 Filed 1-25-01; 8:45 am]

BILLING CODE 4191-02-P